FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011810

Title: CMA-CGM/HL GUMEX-Brasil Cooperative Working Agreement

Parties:

CMA-CGM SA

Hapag-Lloyd Container Linie GmbH

Synopsis: The proposed agreement would authorize CMA-CGM and Hapag-Lloyd to charter space to and from each other on each other's vessels and discuss and agree on rates on a voluntary basis in the trade between ports on the U.S. Gulf Coast and ports in Mexico, Venezuela, Brazil, Argentina, Uruguay, and the Caribbean Sea.

By Order of the Federal Maritime Commission.
Dated: July 12, 2002.
Theodore A. Zook,
Assistant Secretary.

[FR Doc. 02-18009 Filed 7-16-02; 8:45 am]

BILLING CODE 6730-01-P